NATIONAL AERONAUTICS AND SPACE ADMINISTRATION

[Notice 05-052]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: March 17, 2005.

FOR FURTHER INFORMATION CONTACT: Randy Heald, Patent Counsel, Kennedy Space Center, Mail Code CC-A, Kennedy Space Center, FL 32899; telephone (321) 867-7214; fax (321) 867-1817.

NASA Case No. KSC-12697: A New Approach for Achieving Fire Retardancy and Improving Physical Properties in a Compatable Polymer Matrix;

NASA Case No. KSC-12637: Removal of PCB and Other Halogenated Organic Contaminants Found in Ex Situ Structures;

NASA Case No. KSC-12630: Image Processing for Binarization Enhancement via Fuzzy Reasoning.

Dated: March 10, 2005.
Keith T. Sefton,
Deputy General Counsel, Administration and Management.

[FR Doc. 05-5248 Filed 3-16-05; 8:45 am]

BILLING CODE 7510-13-P